DEPARTMENT OF DEFENSE

Office of the Secretary

[Docket ID: DoD-2021-OS-0068]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 21, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela Duncan at the Department of Defense, Washington Headquarters Services, ATTN: Executive Services Directorate, Directives Division, 4800 Mark Center Drive, Suite 03F09-09, Alexandria, VA 22350-3100 or call 571-372-7574.

SUPPLEMENTARY INFORMATION: Title; Associated Form; and OMB Number: SAPR/SHARP Survey; OMB Control Number 0704-0608.

Needs and Uses: NORC at the University of Chicago, in collaboration with the United States Naval Academy (USNA) Sexual Assault Prevention and Response (SAPR) staff and the United States Military Academy (USMA) sexual harassment/assault response and prevention (SHARP) staff, is conducting the SAPR/SHARP Surveys (a baseline survey and one follow-up survey) with USNA students (midshipmen) and USMA students (cadets) with funding support from the Sexual Assault Prevention and Response Office. The purpose of the overall study is to determine the effectiveness of the academy prevention programming in addressing sexual harassment and sexual assault. The survey assesses topics such as rape myth acceptance, descriptive behavioral norms at the respective academies, experiences of sexual harassment and sexual assault, alcohol-related sex expectancies, witnessing experiences that might call for bystander intervention to prevent sexual harassment and/or sexual assault, and personal responses when exposed to these situations. The surveys are voluntary. Data are aggregated by appropriate sociodemographic categories (sex, sexual orientation, race/ethnicity, and varsity athletic participation; sociodemographic responses will be recoded as binary indicators to prevent anyone from figuring out an individual participant's identity based on unique characteristics). The results of this survey will be used by the Service Academies to evaluate and update their prevention programming.

Affected Public: Individuals or households.

Annual Burden Hours: 1,100.

Number of Respondents: 4,400.

Responses per Respondent: 1.

Annual Responses: 4,400.

Average Burden per Response: 15 minutes.

Frequency: On occasion (baseline in summer 2021; follow-up in spring 2023).

Dated: July 20, 2021.
Aaron T. Siegel,
Alternate OSD Federal Register Liaison Officer, Department of Defense.

[FR Doc. 2021-15770 Filed 7-22-21; 8:45 am]

BILLING CODE 5001-06-P